DEPARTMENT OF ENERGY

Federal Energy Regulatory Commission

[Docket No. PR01-17-000]

Raptor Natural Pipeline LLC; Notice of Rate Election

June 12, 2001.

Take notice that on June 1, 2001, Raptor Natural Pipeline LLC (Raptor) filed, pursuant to Section 284.123(b)(2) of the Commission's regulations, an election setting forth proposed rates for firm and interruptible Section 311(a)(2) transportation services and stating Raptor's intent to continue providing Section 311(a)(2) storage services at market-based rates. Raptor seeks a fair and equitable determination from the Commission, regarding these rate proposals. Raptor's mailing address is P.O. Box 4783, CH 1068, Houston, Texas, 77079.

Raptor states that it is the successor-in-interest to LG&E Natural Pipeline L.L.C., and is an intrastate pipeline company within the meaning of Section 2(16) of the NGPA, 15 U.S.C. § 3301(16). Raptor will provide the services described above pursuant to Section 311(a)(2) of the NGPA through its facilities located in New Mexico.

Pursuant to Section 284.123(b)(2)(ii), of the Commission's regulations, if the Commission does not act within 150 days of the date of the Petition's filing date, the rates proposed therein will be deemed to be fair and equitable and not in excess of an amount that interstate pipelines would be permitted to charge for similar services. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before June 27, 2001. This petition for rate approval is on file with the Commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-15235 Filed 6-15-01; 8:45 am]

BILLING CODE 6717-01-M